DEPARTMENT OF THE INTERIOR

Bureau of Land Management

[17X.LLAK930000.L13100000.EI0000.241A]

Notice of National Petroleum Reserve in Alaska Oil and Gas Lease Sale 2017; Notice of Availability of the Detailed Statement of Sale for the NPR-A 2017 Oil and Gas Lease Sale

AGENCY: Bureau of Land Management, Interior.

ACTION: Notice.

SUMMARY: The Bureau of Land Management's (BLM) Alaska State Office will hold an oil and gas lease sale bid opening for all available tracts in the National Petroleum Reserve in Alaska (NPR-A).

DATES: The oil and gas lease sale bid opening will be at 1 p.m. (AKST) on Wednesday, December 6, 2017. The BLM must receive all sealed bids by 4 p.m. (AKST), Monday, December 4, 2017. The Detailed Statement of Sale for the NPR-A Oil and Gas Lease Sale 2017 will be available to the public on October 26, 2017.

ADDRESSES: Sealed bids must be received at the BLM-Alaska State Office, ATTN: Carol Taylor (AK932); 222 West 7th Avenue, #13; Anchorage, AK 99513-7504. You may get the Detailed Statement of Sale from the BLM Alaska Web site at https://on.doi.gov/2fgHGRq, or request a copy from the Public Information Center, BLM Alaska State Office, 222 West 7th Avenue, #13; Anchorage, AK 99513-7504; 907-271-5960.

FOR FURTHER INFORMATION CONTACT: Robert Brumbaugh, 907-271-4429. People who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The December 2017 NPR-A Oil and Gas Lease Sale will include all 900 tracts (approximately 10.3 million acres) that are available for leasing under the NPR-A Integrated Activity Plan/Environmental Impact Statement Record of Decision (ROD) that was finalized in February 2013. This is the first time that all available tracts, as designated available for development in the 2013 Record of Decision, will be offered for sale.

The opening and reading of the bids for the 2017 lease sale will be available for online public viewing via video livestreaming at http://www.blm.gov/live.

The Detailed Statement of Sale will include a description of the areas the BLM is offering for lease, as well as the lease terms, conditions, special stipulations, required operating procedures, and directions for how to submit bids. If you plan to submit a bid(s), please note that all bids must be sealed in accordance with the provisions identified in the Detailed Statement of Sale. The United States reserves the right to withdraw any tract from this sale prior to issuance of a written acceptance of a bid.

Authority: 43 CFR 3131.4-1 and 42 U.S.C. 6506a.

Karen Mouritsen,
Acting State Director, Alaska.

[FR Doc. 2017-23281 Filed 10-25-17; 8:45 am]

BILLING CODE 4310-JA-P